DEPARTMENT OF HEALTH AND HUMAN SERVICES

Office of the Secretary

[Document Identifier: HHS-OS-0990-0331-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0331, scheduled to expire on 08/31/2015. Comments submitted during the first public review of this ICR will be provided to OMB. OMB will accept further comments from the public on this ICR during the review and approval period.

DATES: Comments on the ICR must be received on or before August 28, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0331 and document identifier HHS-OS-0990-0331-30D for reference.

Information Collection Request Title: Evaluation of the Responsible Fatherhood, Marriage and Family Strengthening Grants for Incarcerated and Reentering Fathers and Their Partners.

Abstract: The Office of the Assistant Secretary for Planning and Evaluation (ASPE) is conducting an evaluation of a demonstration program called Responsible Fatherhood, Marriage and Family Strengthening Grants for Incarcerated and Reentering Fathers and Their Partners (MFS-IP). This demonstration program, funded in 2006 by the Office of Family Assistance within the Administration for Children and Families (ACF), supported healthy marriage and responsible fatherhood activities among incarcerated and recently released fathers, their partners, and children. The MFS-IP evaluation assesses the effects of these activities by comparing relationship quality and stability, positive family interactions, family financial well-being, recidivism, and community connectedness between intervention and control groups.

Data collection for the entire evaluation is expected to last 7 years, from the time the first participant was enrolled in late 2008 until the last qualitative follow-back interview is administered. The burden table below includes completion of a set of follow-back qualitative interviews with a small group of respondents (previously approved under OMB No. 0990-0331). The current approval expires on August 21, 2015, and we are requesting an extension until December 31, 2015, to enable us to complete all of the interviews that have been previously approved by OMB under this information collection.

Need and Proposed Use of the Information: Primary data for the evaluation comes from in-person surveys with incarcerated and released fathers and their partners at baseline, 9, 18, and 34 month interviews and the qualitative follow-back. This qualitative follow-back is the focus of the current amendment request and it will only be conducted with a very small subsample of the original couples. As previously described and approved under OMB No. 0990-0331, being able to do additional qualitative follow-back with these cases will enable us to better understand how reentry success and family well-being are interrelated for the survey population, inform future research and evaluation with this population (particularly development and selection of appropriate quantitative measures of family relationship quality), and better identify meaningful leverage points for reentry intervention. This information will assist federal, state, and community policymakers and patrons in understanding what policy and programmatic supports could help to strengthen families and improve reentry outcomes in this population.

Likely Respondents: A small sub-sample of couples from the MFS-IP impact study sample, which includes 1,991 fathers incarcerated at the time of the baseline survey and 1,481 of their female partners.

Burden Statement: In this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The table below shows data collection burden, which remains unchanged from the data collection burden approved by OMB in our study renewal of August 2012.

Forms | Annualized number of respondents | Number of responses per respondent | Average burden (in hours) per response | Total annualized burden hour
MFS-IP Follow-up Survey—Male (9 & 18 month) | 20 | 1 | 1.5 | 30
MFS-IP Follow-up Survey—Female (9 & 18 month) | 20 | 1 | 1.5 | 30
MFS-IP Follow-up Survey—Male (34 month and follow-back) | 80 | 1 | 1.5 | 120
MFS-IP Follow-up Survey—Female (34 month and follow-back) | 80 | 1 | 1.5 | 120
Totals |  |  |  | 320

Terry S. Clark,
Asst Information Collection Clearance Officer.

[FR Doc. 2015-18606 Filed 7-28-15; 8:45 am]

BILLING CODE 4150-05-P